RECOVERY ACCOUNTABILITY AND TRANSPARENCY BOARD

[Doc. No. 11-003]

Privacy Act of 1974; System of Records

AGENCY: Recovery Accountability and Transparency Board.

ACTION: Notice of amendment to existing Privacy Act system of records.

SUMMARY: The Recovery Accountability and Transparency Board (Board) is issuing public notice of its intent to amend a system of records that it maintains subject to the Privacy Act of 1974 (5 U.S.C. 552a). RATB-9—FederalReporting.gov Section 1512 Data System, the system that maintains information on recipients of funds disbursed under the American Recovery and Reinvestment Act of 2009, Public Law 111-5 (Recovery Act), is being amended to reflect post-Recovery Act legislation expanding the purview of the Board's oversight responsibilities, see, e.g., Education Jobs Fund, Public Law 111-226, 124 Stat. 2389, sec. 101 (Aug. 10, 2010) (“[T]he amount under this heading shall be administered under the terms and conditions of * * * title XV of division A of the American Recovery and Reinvestment Act of 2009 (Pub. L. 111-5).”), and to account for data submitted to the Board by methods other than FederalReporting.gov. Accordingly, the Board is making substantive amendments to its system notice to include: new categories of individuals covered by the system, new categories of records in the system, an amended routine use, and new record source categories. To further reflect recent legislation and to account for data submitted to the Board by methods other than FederalReporting.gov, the system will be renamed RATB-9—Section 1512 Data System. The amended system of records reads as follows:

RATB-9.

System Name:

Section 1512 Data System (1512 Data System).

Security Classification:

None.

System Location:

The principal location for the system, including hard copy and electronic files, is the Recovery Accountability and Transparency Board, located at 1717 Pennsylvania Avenue, NW., Suite 700, Washington, DC 20006. The physical location for the FederalReporting.gov records is 10007 South 51st Street, Phoenix, AZ 85044.

Categories Of Individuals Covered By The System:

This system contains records on recipients and subrecipients (including vendors) of Recovery Act funds, as well as recipients of any other funds that Congress mandates are subject to the accountability and transparency provisions of Title XV of the Recovery Act. Some of these recipients, subrecipients, or vendors may be individuals and/or sole proprietors.

Categories Of Records In The System:

This system contains records submitted by any means to the Board in connection with the Board's mission reflected in the accountability and transparency requirements of Title XV of the Recovery Act, which may include reports submitted through FederalReporting.gov, and data on recipients and subrecipients (including vendors) provided by states, localities, and other public entities or on behalf of such entities. The system will also store FederalReporting.gov's system-generated data, such as the recipient's electronic report submission date and time, and other identifiers for internal tracking.

Authority For Maintenance Of System:

The Recovery Act was enacted on February 17, 2009, in order to make supplemental appropriations for job preservation and creation, infrastructure investment, energy efficiency and science, assistance to the unemployed, and State and local fiscal stabilization. The Recovery Act established the Board to coordinate and conduct oversight of Recovery Act funds to prevent fraud, waste, and abuse.

Purpose(S):

The purpose of collecting this information is to provide the public with information as to how the government spends money, and also to assist with the Board's efforts to prevent fraud, waste, and abuse of Recovery Act funds and other federal funds for which the Board has been assigned oversight responsibilities.

Routine Uses of Records Maintained in the System, Including Categories of Users and the Purposes of Such Uses:

1512 Data System records will be used to collect information about recipient, subrecipient, and vendor use of Recovery Act funds and other federal funds for which the Board has been assigned oversight responsibilities, as well as to populate public-facing government Web sites where such data release has been legislated pursuant to statute. The records may also be used for auditing or other internal purpose of the Board, including but not limited to: investigation of possible fraud, waste, abuse, and mismanagement of Recovery Act funds; litigation purposes related to information reported to the Board; and contacting the recipient in the event of a system modification or change to FederalReporting.gov, including the data elements required to be reported.

The Board may disclose information contained in a record in this system of records under the routine uses listed in this notice without the consent of the individual if the disclosure is compatible with the purposes for which the record was collected.

The general routine uses for the Board's 1512 Data System records are listed as follows:

A. As set forth above, 1512 Data System records may be disclosed in order to populate public-facing government Web sites when disclosure of certain data elements is consistent with applicable statutes and applicable implementing guidance from the Office of Management and Budget (OMB).

B. Information may be disclosed to the appropriate federal, state, local, or tribal agency responsible for investigating, prosecuting, enforcing, or implementing a statute, rule, regulation, or order, if the information is relevant to a violation or potential violation of civil or criminal law or regulation within the jurisdiction of the receiving entity.

C. Disclosure may be made to a federal, state, local, or tribal or other public authority of the fact that this system of records contains information relevant to the retention of an employee, the retention of a security clearance, the letting of a contract, or the issuance of a license, grant, or other benefit. That entity, authority or licensing organization may then make a request supported by the written consent of the individual for the entire record if it so chooses.

D. Information may be disclosed to a congressional office from the record of an individual in response to an inquiry from the congressional office made at the request of the individual.

E. Information may be disclosed to the Department of Justice (DOJ), or in a proceeding before a court, adjudicative body, or other administrative body before which the Board is authorized to appear, when:

1. The Board, or any component thereof; or

2. Any employee of the Board in his or her official capacity; or

3. Any employee of the Board in his or her individual capacity where the DOJ or the Board has agreed to represent the employee; or

4. The United States, if the Board determines that litigation is likely to affect the Board or any of its components, is a party to litigation or has an interest in such litigation, and the use of such records by the DOJ or the Board is deemed by the Board to be relevant and necessary to the litigation, provided, however, that in each case it has been determined that the disclosure is compatible with the purpose for which the records were collected.

F. Information may be disclosed to the National Archives and Records Administration in records management inspections.

G. Information may be disclosed to contractors, grantees, consultants, or volunteers performing or working on a contract, service, grant, cooperative agreement, job, or other activity for the Board and who have a need to have access to the information in the performance of their duties or activities for the Board.

Policies and Practices for Storing, Retrieving, Accessing, Retaining, and Disposing of Records in the System:

Storage:

The 1512 Data System records will be stored in digital format on a digital storage device. Long-term 1512 Data System records will be stored on magnetic tape format. All record storage procedures are in accordance with current applicable regulations.

Retrievability:

Records are retrievable by database management systems software designed to retrieve data elements based upon role-based user access privileges.

Safeguards:

The Board has minimized the risk of unauthorized access to the system by establishing a secure environment for exchanging electronic information. There are multiple layers of security to physical access to the system. The entire complex is patrolled by security during non-business hours. Physical access to the data system housed within the facility is controlled by a computerized badge-reading system. Multiple levels of security are maintained via dual factor authentication for access using biometrics. The computer system offers a high degree of resistance to tampering and circumvention. This system limits data access to Board and contract staff on a need-to-know basis, and controls individuals' ability to access and alter records within the system. All users of the system of records are given a unique user identification (ID) with personal identifiers. All interactions between the system and the authorized individual users are recorded.

Retention And Disposal:

The Board will retain and dispose of these records in accordance with National Archives and Records Administration General Records Schedule 20, Item 1.c. This schedule provides disposal authorization for electronic files and hard copy printouts created to monitor system usage, including but not limited to log-in files, audit trail files, system usage files, and cost-back files used to access charges for system use. Records will be deleted or destroyed when the Board determines they are no longer needed for administrative, legal, audit, or other program purposes.

System Manager And Address:

Michael Wood, Recovery Accountability and Transparency Board, 1717 Pennsylvania Avenue, NW., Suite 700, Washington, DC 20006.

Notification Procedure:

Any individual who wants to know whether this system of records contains a record about him or her, who wants access to his or her record, or who wants to contest the contents of a record should make a written request to the system manager.

Record Access Procedures:

A request for record access shall follow the directions described under Notification Procedure and will be addressed to the system manager at the address listed above.

Contesting Records Procedures:

If you wish to contest a record in the system of records, contact the system manager and identify the record to be changed, identify the corrective action sought, and provide a written justification.

Record Source Categories:

Information is obtained from recipients and subrecipients (including vendors) of Recovery Act funds or other federal funds for which the Board has been assigned oversight responsibilities; federal, state, local, and foreign agencies; and public-source materials.

DATES: Comments on this amendment must be received by the Board on or before June 20, 2011. The Privacy Act, at 5 U.S.C. 552a(e)(11), requires that the public be provided a 30-day period in which to comment on an agency's intended use of information in a system of records. Appendix I to Office of Management and Budget (OMB) Circular A-130 requires an additional 10-day period, for a total of 40 days, in which to make such comments.) The amended system of records will be effective, as proposed, at the end of the comment period unless the Board determines, upon review of the comments received, that changes should be made. In that event, the Board will publish a revised notice in the Federal Register.

ADDRESSES: Comments on the proposed amendments should be clearly identified as such and may be submitted:

By Mail or Hand Delivery: Jennifer Dure, General Counsel, Recovery Accountability and Transparency Board, 1717 Pennsylvania Avenue, NW., Suite 700, Washington, DC 20006;

By Fax: (202) 254-7970; or,

By E-mail to the Board: comments@ratb.gov.

FOR FURTHER INFORMATION CONTACT: Jennifer Dure, General Counsel, Recovery Accountability and Transparency Board, 1717 Pennsylvania Avenue, NW., Suite 700, Washington, DC 20006, (202) 254-7900.

Ivan J. Flores,
Paralegal Specialist, Recovery Accountability and Transparency Board.

[FR Doc. 2011-11296 Filed 5-9-11; 8:45 am]

BILLING CODE 6821-15-P